OVERSEAS PRIVATE INVESTMENT CORPORATION

Sunshine Act Meeting; Public Hearing

April 20, 2006.

OPIC's Sunshine Act notice of its Public Hearing in Conjunction with each Board meeting was published in the Federal Register (Volume 71, Number 60, Page 15772) March 29, 2006. No requests were received to provide testimony or submit written statements for the record; therefore, OPIC's public hearing in conjunction with OPIC's April 27, 2006 Board of Directors meeting scheduled for 2 p.m. on April 20, 2006 has been cancelled.

Contact Person for Information: Information on the hearing cancellation may be obtained from Connie M. Downs at (202) 336-8438, via facsimile at (202) 218-0136, or via e-mail at cdown@opic.gov.

Dated: April 17, 2006.
Connie M. Downs,
OPIC Corporate Secretary.

[FR Doc. 06-3777 Filed 4-17-06; 1:30 pm]

BILLING CODE 3210-01-M